NATIONAL ARCHIVES AND RECORDS ADMINISTRATION

[NARA-22-0026; NARA-2023-011]

Records Schedules; Administrative Correction Notice

AGENCY: National Archives and Records Administration (NARA).

ACTION: Notice of administrative correction to a records schedule.

SUMMARY: We are making the following administrative correction to DAA-0095-2018-0099 of the U.S. Forest Service for their Equipment Program Development Records. The schedule covers records related to the development and testing of new Forest Service equipment and equipment program administration. An administrative correction addresses errors or oversights to temporary items in an approved records schedule. We are adding a superseded item citation.

DATES: We must receive responses on the schedules listed in this notice by January 30, 2023.

ADDRESSES: You can find the records schedule subject to this proposed administrative correction on the Records Control Schedule page [https://www.archives.gov/records-mgmt/rcs].

You may submit comments by the following method:

Federal eRulemaking Portal: https://www.regulations.gov. On the website, enter either of the numbers cited at the top of this notice into the search field. This will bring you to the docket for this notice which has a `comment' button to submit a comment. For more information on regulations.gov and on submitting comments, see their FAQs at https://www.regulations.gov/faq.

If you are unable to comment via regulations.gov, you may email us at request.schedule@nara.gov for instructions on submitting your comment. You must cite the control number of the schedule you wish to comment on.

FOR FURTHER INFORMATION CONTACT: Kimberly Richardson, Strategy and Performance Division, by email at regulation_comments@nara.gov or by phone at 301-837-2902. For information about records schedules, contact Records Management Operations by email at request.schedule@nara.gov.

SUPPLEMENTARY INFORMATION: An administrative correction is a change to a temporary item on an approved record schedule to address errors or oversights when the records were originally scheduled. This notice applies only to the change described, and not to other portions of the schedule. We invite public comments on this administrative correction, as required by 44 U.S.C. 3303a(a). The submitting agency cannot implement the administrative correction until the comment period ends and NARA approves the change.

This administrative correction should be read in conjunction with the previously approved records schedule, DAA-0095-2018-0099 Item 0001, Department of Agriculture, U.S. Forest Service, Equipment Development Program Records. You can find this schedule on the Records Control Schedule at https://www.archives.gov/files/records-mgmt/rcs/schedules/departments/department-of-agriculture/rg-0095/daa-0095-2018-0099_sf115.pdf.

Proposed Change

We are making an administrative correction to Item 0001 Equipment Development Program Records to add a superseded item. Item 0001 was meant to supersede N1-095-10-010, item 157, Equipment Development Program records, which can be found on the Records Control Schedule at https://www.archives.gov/files/records-mgmt/rcs/schedules/departments/department-of-agriculture/rg-0095/n1-095-10-010_sf115.pdf. The supersession did not appear in the Portable Document Format (PDF) version of the schedule because of a technical error. This error created an ambiguous disposition. DAA-0095-2018-0099-0001 will now supersede N1-095-10-010 item 157. Both the 2018 item and the superseded item have temporary dispositions, and the retention period is the same.

Laurence Brewer,
Chief Records Officer for the U.S. Government.

[FR Doc. 2022-27090 Filed 12-13-22; 8:45 am]

BILLING CODE 7515-01-P